DEPARTMENT OF TRANSPORTATION

National Highway Traffic Safety Administration

[Docket Number NHTSA-2005-21025]

Reports, Forms, and Recordkeeping Requirements

AGENCY: National Highway Traffic Safety Administration (NHTSA), U.S. Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes collection of information for which NHTSA intends to seek OMB approval.

DATES: Comments must be received on or before June 27, 2005.

ADDRESSES: Comments must refer to the docket notice numbers cited at the beginning of this notice and be submitted to Docket Management, National Highway Traffic Safety Administration, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for the collection of information may be obtained at no charge from Mr. Christopher J. Wiacek, National Highway Traffic Safety Administration (NVS-216), 400 Seventh Street, SW (Room 5319), Washington, DC 20590. Mr. Wiacek's telephone number is (202) 366-7042. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following collections of information:

(1) Title: Reporting of Information and Documents about Potential Defects—49 CFR part 579.

OMB Control Number: 2127-0616.

Affected Public: Manufacturers of motor vehicles and motor vehicle equipment.

Abstract: Under Chapter 301 of Title 49 of the United States Code, manufacturers of motor vehicles and items of motor vehicle equipment are periodically required to submit certain information to NHTSA, including information about claims and notices about deaths and serious injury, property damage data, communications to customers and others, and information on incidents resulting in fatalities or serious injuries from possible defects in vehicles or equipment in the United States or in identical or substantially similar vehicles or equipment in foreign countries. The statute also authorized NHTSA to require the submission of other data that may assist in the identification of safety-related defects in vehicles and equipment.

Information and documents submitted is intended to provide NHTSA with “early warning” of potential safety-related defects in motor vehicles and motor vehicle equipment. NHTSA will rely on the information provided (as well as other relevant information) in deciding whether to open safety defect investigations.

Reporting of Information About Foreign Safety Recalls and Campaigns Related to Potential Defects (OMB Control Number 2127-0620) will not be addressed separately and will be merged with this request for collections.

Estimated Annual Burden Cost: $1,721,877.

Estimated Annual Burden Hours: 20,102 hours.

Number of Respondents: 500.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Kathleen C. Demeter,
Director for Office of Defects Investigation.

[FR Doc. 05-8454 Filed 4-26-05; 8:45 am]

BILLING CODE 4910-59-P